DEPARTMENT OF TRANSPORTATION

Pipeline and Hazardous Materials Safety Administration Office of Hazardous Materials Safety

Notice of Applications for Modification of Exemption

AGENCY: Pipeline and Hazardous Materials Safety Administration, DOT.

ACTION: List of applications for modification of exemption.

SUMMARY: In accordance with the procedures governing the application for, and the processing of, exemptions from the Department of Transportation's Hazardous Material Regulations (49 CFR part 107, subpart B), notice is hereby given that the Office of Hazardous Materials Safety has received the application described herein. This notice is abbreviated to expedite docketing and public notice. Because the sections affected, modes of transportation, and the nature of application have been shown in earlier Federal Register publications, they are not repeated here. Request of modifications of exemptions (e.g. to provide for additional hazardous materials, packaging design changes, additional mode of transportation, etc.) are described in footnotes to the application number. Application numbers with the suffix “M” demote a modification request. There applications have been separated from the new application for exemption to facilitate processing.

DATES: Comments must be received on or before September 2, 2005.

Address Comments To: Record Center, Pipeline and Hazardous Materials Safety Administration, U.S. Department of Transportation, Washington, DC 20590.

Comments should refer to the application number and be submitted in triplicate. If Confirmation of receipt of comments is desired, include a self-addressed stamped postcard showing the exemption number.

FOR FURTHER INFORMATION CONTACT: Copies of the applications are available for inspection in the Records Center, Nassif Building, 400 7th Street SW., Washington DC or at http://dms.dot.gov.

This notice of receipt of applications for modification of exemption is published in accordance with Part 107 of the Federal hazardous materials transportation law (49 U.S.C. 5117(b); 49 CFR 1.53(b)).

Issued in Washington, DC, on August 12, 2005.
R. Ryan Posten,
Exemptions Program Officer, Office of Hazardous Materials Exemptions & Approvals.

Application No. | Docket No. | Applicant | Regulation(s) affected | Modification of exemption | Nature of exemption thereof
MODIFICATION EXEMPTIONS
4661-M |  | Chemtell Foote Corporation, Kings Mountain, NC | 49 CFR 180.205 | 4661 | To modify the exemption to authorize an additional proper shipping name for a Division 4.2 and Division 4.3 material transported in 4BA240 and 4BW240 cylinders.
10048-M |  | Epichem, Inc., Haverhill, MA | 49 CFR 173.181; 173.187; 173.201, 202, 211, 212, 226, 227 | 10048 | To modify the exemption to authorize the transportation of additional Division 6.1 materials transported in a UN1A2 drum inside a non-DOT specification metal container.
10695-M |  | 3M Company, St. Paul, MN | 49 CFR 172.101; 172.504; 172.505(a); 173.323; 174.81; 176.84; 177.848 | 10695 | To modify the exemption to authorize a revision to the 3M Steri-Gas Cartridge Return Procedures containing a Division 2.3 material transported in UN4G fiberboard boxes.
10798-M |  | Chemetall Foote Corporation, Kings Mountain, NC | 49 CFR 174.67(i),(j) | 10798 | To modify the exemption to authorize an additional proper shipping name for the Division 4.2 material transported in DOT Specification tank cars
10962- |  | ICC The Compliance Center, Niagara Falls, NY | 49 CFR Part 172, Subparts E, F; Part 177, Subpart C | 10962 | To modify the exemption to authorize the use of an alternative specially designed combination packaging for the transportation of numerous hazardous materials by various modes.
11318-M |  | Akzo Mobel Chemicals, Inc., Chicago, IL | 49 CFR 172.101 Special Provision B14 | 11318 | To modify the exemption to authorize the transportation of an additional Division 6.1 material in uninsulated DOT Specification 51 portable tanks.
11670-M |  | Oilphase Schlumberger Dyce, Aberdeen Scotland | 49 CFR 178.36 | 11670 | To modify the exemption to authorize the alternative use of a nickel-based precipitation hardenable alloy for the non-DOT specification cylinder used for oil well sampling.
11924-M | RSPA-97-2744 | Wrangler Corporation, Auburn, ME | 49 CFR 173.12(B)(2)(i) | 11924 | To modify the exemption to authorize an additional design type of the composite intermediate bulk container (IBC) and a change to the additional IBC drop test requirements.
12475-M | RSPA-00-7484 | Chemetall Foote Corporation, Kings Mountain, NC | 49 CFR 173.181; 173.28(b)(2) | 12475 | To modify the exemption to authorize an additional proper shipping name for the Division 4.2 and Division 4.3 material transported in UN1A1 drums.
12630-M | RSPA-01-8550 | Chemetall GmbH, Gesellschaft 59500 Douai, France | 49 CFR 172.102(a)(2) and (c)(7)(ii) | 12630 | To modify the exemption to authorize an addiitional proper shipping name for the Division 4.2 material transported in DOT Specification IM 101 portable tanks.
13179-M | RSPA-02-14020 | Clean Harbors Environmental Services, Inc., Columbia, SC | 49 CFR 173.21; 173.308 | 13179 | To modify the exemption to authorize the use of an alternative shipping description and hazard class for the Division 2.1 materials which are being transported to a disposal facility.

[FR Doc. 05-16406 Filed 8-17-05; 8:45 am]

BILLING CODE 4909-60-M